INTERNATIONAL TRADE COMMISSION

[Investigation Nos. 701-TA-513 and 731-TA-1249 (Final)]

Sugar From Mexico

Determinations

On the basis of the record ¹ developed in the subject investigations, the United States International Trade Commission (“Commission”) determines, pursuant to the Tariff Act of 1930 (“the Act”), that an industry in the United States is materially injured by reason of imports of sugar from Mexico, provided for in statistical subheadings 1701.12.1000, 1701.12.5000, 1701.13.1000, 1701.13.5000, 1701.14.1000, 1701.14.5000, 1701.91.1000, 1701.91.3000, 1701.99.1010, 1701.99.1025, 1701.99.1050, 1701.99.5010, 1701.99.5025, 1701.99.5050, 1702.90.4000 and 1703.10.3000 of the Harmonized Tariff Schedule of the United States, that have been found by the Department of Commerce (“Commerce”) to be sold in the United States at less than fair value (“LTFV”), and to be subsidized by the government of Mexico.²

¹ The record is defined in sec. 207.2(f) of the Commission's Rules of Practice and Procedure (19 CFR 207.2(f)).

² All six Commissioners voted in the affirmative.

Background

The Commission, pursuant to sections 705(b) and 735(b) of the Act (19 U.S.C. 1671d(b) and 19 U.S.C. 1673d(b)), instituted these investigations effective March 28, 2014, following receipt of a petition filed with the Commission and Commerce by the American Sugar Coalition and its members: American Sugar Cane League, Thibodaux, LA; American Sugarbeet Growers Association, Washington, DC; American Sugar Refining, Inc., West Palm Beach, FL; Florida Sugar Cane League, Washington, DC; Hawaiian Commercial and Sugar Company, Puunene, HI; Rio Grande Valley Sugar Growers, Inc., Santa Rosa, TX; Sugar Cane Growers Cooperative of Florida, Belle Glade, FL; and United States Beet Sugar Association, Washington, DC. The final phase of the investigations was scheduled by the Commission following notification of preliminary determinations by Commerce that imports of sugar from Mexico were subsidized within the meaning of section 703(b) of the Act (19 U.S.C. 1671b(b)) and dumped within the meaning of 733(b) of the Act (19 U.S.C. 1673b(b)). Notice of the scheduling of the final phase of the Commission's investigations and of a public hearing to be held in connection therewith was given by posting copies of the notice in the Office of the Secretary, U.S. International Trade Commission, Washington, DC, and by publishing the notice in the Federal Register on December 18, 2014 (79 FR 75591). On December 19, 2014, the Department of Commerce suspended the antidumping and countervailing duty investigations on sugar from Mexico (79 FR 78039, 78044, December 29, 2014). Subsequently, Commerce received timely requests to continue the antidumping and countervailing duty investigations on sugar from Mexico and resumed its investigations on May 4, 2015 (80 FR 25278). The Commission, therefore, revised its schedule to conform with Commerce's new schedule (80 FR 28009, May 15, 2015). The hearing was held in Washington, DC, on September 16, 2015, and all persons who requested the opportunity were permitted to appear in person or by counsel.

The Commission made these determinations pursuant to sections 705(b) and 735(b) of the Tariff Act of 1930 (19 U.S.C. 1671d(b) and 19 U.S.C. 1673d(b)). It completed and filed its determinations in these investigations on November 6, 2015. The views of the Commission are contained in USITC Publication 4577 (November 2015), entitled Sugar from Mexico: Investigation Nos. 701-TA-513 and 731-TA-1249 (Final).

By order of the Commission.
Issued: November 9, 2015.
Lisa R. Barton,
Secretary to the Commission.

[FR Doc. 2015-28856 Filed 11-13-15; 8:45 am]

BILLING CODE 7020-02-P